ENVIRONMENTAL PROTECTION AGENCY

40 CFR Part 52

[EPA-R04-OAR-2017-0004; FRL-9964-07-Region 4]

Air Plan Approval; Kentucky; Revisions to Jefferson County Emissions Monitoring and Reporting

AGENCY: Environmental Protection Agency.

ACTION: Proposed rule.

SUMMARY: On March 22, 2011, and April 20, 2011, the Commonwealth of Kentucky, through the Kentucky Division for Air Quality (KDAQ), submitted revisions to the Kentucky State Implementation Plan (SIP) on behalf of the Louisville Metro Air Pollution Control District (District). The Environmental Protection Agency (EPA) is proposing to approve the April 20, 2011, submittal and the portions of the March 22, 2011, submittal concerning revisions to the District's stationary source emissions monitoring and reporting requirements because the Commonwealth has demonstrated that these changes are consistent with the Clean Air Act (CAA or Act).

DATES: Written comments must be received on or before July 31, 2017.

ADDRESSES: Submit your comments, identified by Docket ID No. EPA-R04-OAR-2017-0004 at http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Richard Wong, Air Regulatory Management Section, Air Planning and Implementation Branch, Air, Pesticides and Toxics Management Division, U.S. Environmental Protection Agency, Region 4, 61 Forsyth Street SW., Atlanta, Georgia 30303-8960. Mr. Wong can be reached by telephone at (404) 562-8726 or via electronic mail at wong.richard@epa.gov.

SUPPLEMENTARY INFORMATION:

I. Background

In this rulemaking, EPA is proposing to approve only certain changes related to the District's stationary source emissions monitoring and reporting requirements in Regulation 1.06 ¹ in the March 22, 2011, and April 20, 2011, SIP revisions. This regulation provides the District with the authority to require emissions monitoring at stationary sources and requires certain sources to maintain emissions records and provide annual emissions statements to the District. It does not impose any emissions limits or control requirements on any emissions source. The March 22, 2011, submission also included changes to Jefferson County Regulation 1.02—Definitions; Regulation 3.01—Ambient Air Quality Standards; Regulation 3.02—Applicability of Ambient Air Quality Standards; Regulation 3.03—Definitions; Regulation 3.04—Ambient Air Quality Standards; and Regulation 3.05—Methods of Measurement. EPA approved these changes, with the exception of the requested addition of certain definitions in Regulation 1.02, on December 6, 2016 (81 FR 87815).² In addition, the March 22, 2011, submission also included changes to Regulation 1.07—Emissions During Startups, Shutdowns, Malfunctions and Emergencies. EPA approved the change to Regulation 1.07 on June 10, 2014 (79 FR 33101). The April 20, 2011, submission revises only Regulation 1.06.

¹ In 2003, the City of Louisville and Jefferson County governments merged and the “Jefferson County Air Pollution Control District” was renamed the “Louisville Metro Air Pollution Control District.” However, each of the regulations in the Jefferson County portion of the Kentucky SIP still has the subheading “Air Pollution Control District of Jefferson County.” Thus, to be consistent with the terminology used in the SIP, EPA refers throughout this notice to regulations contained in Jefferson County portion of the Kentucky SIP as the “Jefferson County” regulations.

² EPA did not approve the addition of definitions for the terms “acute noncancer effect,” “cancer,” “carcinogen,” and “chronic noncancer effect,” because these definitions are not related to the National Ambient Air Quality Standards (NAAQS). See 81 FR 87815.

II. EPA's Analysis of Kentucky's SIP Revisions

A. March 22, 2011, Submittal

The March 22, 2011, SIP submission contains a version of Regulation 1.06 adopted by the District on June 21, 2005 (referred to as “Version 7” by the District) and a version of Regulation 1.06 adopted by the District on September 21, 2005 (referred to as “Version 8”). The version currently incorporated into the SIP is referred to as “Version 6” (District effective on December 15, 1993). See 65 FR 53660 (October 23, 2001). Collectively, Versions 7 and 8 change the heading of Regulation 1.06 to “Stationary Source Self-Monitoring, Emissions Inventory Development, and Reporting,” and change aspects of Section 1—“In Stack Self-Monitoring and Reporting” (including a change in the title to “In-Stack Self-Monitoring and Reporting); Section 2—“Ambient Air Monitoring”; and Section 3—“Emissions and Related Data Reporting” (including a change in the title to “Provisions for Section 4 and Section 5 Emissions Data”). The submission adds four new sections: Section 4—“Emissions Data for Criteria Pollutants, HAPs, and Ammonia”; Section 5—“Enhanced Emissions Data for Toxic Air Contaminants”; Section 6—“Certification by a Responsible Official”; and Section 7—“Confidentiality and Open Records Requirements.” The changes to the heading of Regulation 1.06, the changes to Sections 1 and 2, and the addition of Sections 6 and 7 are administrative in nature. The changes to Section 3 modify and add provisions regarding emissions reporting data requirements, methods of emissions calculations, and stationary source emissions statements, and remove outdated reporting dates; the addition of Section 4 details requirements for submitting emissions statements on an annual basis for particulate matter, sulfur dioxide, carbon monoxide, nitrogen dioxide, lead, ozone precursor emissions of volatile organic compounds and oxides of nitrogen, ammonia, and hazardous air pollutants; and Section 5 contains requirements for enhanced emissions statements for listed “toxic air contaminants.” Because the reporting of toxic air contaminants is not related to the National Ambient Air Quality Standards (NAAQS) for the criteria pollutants, EPA is not proposing to act on Section 5.³ EPA is proposing to approve the changes to Regulation 1.06 contained in the March 22, 2011, SIP revision, with the exception of Section 5 and references to Section 5 located in Section 3, to the extent that these changes are not superseded by the changes in the April 20, 2011, submittal discussed below.

³ The criteria pollutants are particulate matter, sulfur dioxide, carbon monoxide, nitrogen dioxide, lead, and ground-level ozone.

B. April 20, 2011, Submittal

The April 20, 2011, SIP submission contains a version of Regulation 1.06 adopted by the District on January 19, 2011 (referred to as “Version 9” by the District). After acknowledging that the District had sent Versions 7 and 8 to Kentucky for submittal to EPA, the District requests that EPA incorporate Version 9 into the SIP and identifies changes in Regulation 1.06 between Version 8 and Version 9. Version 9 revises Version 8 by changing aspects of Section 1 (including a change in the title to “Stack Monitoring and Reporting”); Section 2 (including a change in title to “Ambient Air Monitoring and Reporting”); Section 3 (including a change in the title to “Requirements for Section 4 and Section 5 Emissions Statements”); Section 4 (including a change in the title to “Emissions Statements for Criteria Pollutants, HAPs, and Ammonia”); Section 5 (including a change to the title to “Emissions Statements for Toxic Air Contaminants”); and Section 6. Version 9 also eliminates Section 7. The submitted changes clarify and streamline the monitoring, recordkeeping, and reporting requirements for stationary sources by deleting and combining redundant and outdated provisions. The changes to Section 4 also modify the emissions threshold for sources to submit annual emissions statements to the District. For the reasons discussed above, EPA is not proposing to act on Section 5 or on the references to Section 5 located in Section 3.

EPA has reviewed the changes to Regulation 1.06 in the March 22, 2011, and April 20, 2011, SIP submissions, and has made the preliminary determination that the changes that EPA proposes to incorporate into the SIP are consistent with the CAA. EPA has preliminarily determined that these changes will not interfere with any applicable requirement concerning attainment or any other applicable requirement of the CAA, and therefore satisfy section 110(l), because they are either administrative or modify requirements that do not have an air quality impact such that removal will interfere with attainment or maintenance of the NAAQS. If EPA's proposed approval of changes to Regulation 1.06 is finalized, the text of the regulation in the SIP will reflect Version 9, with the exception of Section 5 and any references to Section 5 located in Section 3.

III. Incorporation by Reference

EPA is proposing to include in a final EPA rule regulatory text that includes incorporation by reference. In accordance with requirements of 1 CFR 51.5, EPA is proposing to incorporate by reference Louisville Metro Air Pollution Control District Regulation 1.06—Stationary Source Self-Monitoring, Emissions Inventory Development, and Reporting, District effective on January 19, 2011, with the exception of Section 5 and any references to Section 5 located in Section 3. EPA has made, and will continue to make, these materials generally available through www.regulations.gov and/or at the EPA Region 4 office (please contact the person identified in the FOR FURTHER INFORMATION CONTACT section of this preamble for more information).

IV. Proposed Action

EPA is proposing to approve Kentucky's March 22, 2011, and April 20, 2011, SIP revisions as discussed in section II, above. If this proposal is finalized, the text of Jefferson County Regulation 1.06 in the SIP will reflect the version of the rule effective on January 19, 2011 (Version 9) with the exception of Section 5 and any references to Section 5 located in Section 3. EPA is not proposing to act on Section 5 for the reasons discussed above.

V. Statutory and Executive Order Reviews

Under the CAA, the Administrator is required to approve a SIP submission that complies with the provisions of the Act and applicable federal regulations. See 42 U.S.C. 7410(k); 40 CFR 52.02(a). Thus, in reviewing SIP submissions, EPA's role is to approve state choices, provided that they meet the criteria of the CAA. Accordingly, this proposed action merely proposes to approve state law as meeting federal requirements and does not impose additional requirements beyond those imposed by state law. For that reason, this proposed action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

List of Subjects in 40 CFR Part 52

Environmental protection, Air pollution control, Incorporation by reference, Intergovernmental relations, Nitrogen dioxide, Sulfur dioxide, Reporting and recordkeeping requirements.

Authority: 42 U.S.C. 7401 et seq.

Dated: June 14, 2017.
V. Anne Heard,
Acting Regional Administrator, Region 4.

[FR Doc. 2017-13670 Filed 6-28-17; 8:45 am]

BILLING CODE 6560-50-P